DEPARTMENT OF AGRICULTURE

Forest Service

Notice of Resource Advisory Committee Meeting

AGENCY: North Central Idaho Resource Advisory Committee, Grangeville, Idaho, USDA, Forest Service.

ACTION: Notice of meeting.

SUMMARY: Pursuant to the authorities in the Federal Advisory Committee Act (Pub. L. 92-463) and under the Secure Rural Schools and Community Self-Determination Act of 2000 (Pub. L. 110-343) the Nez Perce and Clearwater National Forests' North Central Idaho Resource Advisory Committee will meet Wednesday, March 25th, 2009 in Grangeville, Idaho for a business meeting. The meeting is open to the public.

SUPPLEMENTARY INFORMATION: The business meeting on March 25th will be held at the Super 8 motel in Grangeville, Idaho, beginning at 10 a.m. (PST). Agenda topics will include reviewing new law, election of chairperson and discussion of potential projects. A public forum will begin at 3:15 p.m. (PST).

FOR FURTHER INFORMATION CONTACT: Laura A. Smith, Public Affairs Officer and Designated Federal Officer, at (208) 983-5143.

Dated: February 23, 2009.
Thomas K. Reilly,
Forest Supervisor.

[FR Doc. E9-4344 Filed 3-2-09; 8:45 am]

BILLING CODE 3410-11-M